DEPARTMENT OF ENERGY

Office of Energy Efficiency and Renewable Energy

Hydrogen and Fuel Cell Technical Advisory Committee (HTAC)

AGENCY: Office of Energy Efficiency and Renewable Energy, Department of Energy.

ACTION: Notice of open teleconference meeting.

SUMMARY: The Hydrogen and Fuel Cell Technical Advisory Committee (HTAC) held its first meeting on October 2-3, 2006. At that time, it was suggested that a conference call take place on November 17, 2006. The Federal Advisory Committee Act (Pub. L. 92-463, 86 Stat. 770) requires that agencies publish these notices in the Federal Register. This notice fulfills that requirement. The public is permitted to listen in but is not permitted to comment until the end of the call at which time public comments will be taken.

DATES: The conference call will begin on November 17, 2006, at noon EST and will conclude at approximately 2 p.m. EST.

FOR FURTHER INFORMATION CONTACT: HTAC.Committee@ee.doe.gov.

SUPPLEMENTARY INFORMATION: Purpose of Conference Call: To complete agenda items not fully addressed at the meeting on October 2-3, 2006. The Committee is chartered to provide advice, information, and recommendations to the Secretary on the program authorized by Title VIII, Hydrogen, of EPACT.

Tentative Agenda: Agenda items will include discussion: HTAC structure, subcommittees, work plan for FY 2007, and other Committee business.

Public Participation: In keeping with procedures, members of the public are welcome to listen in on the business of HTAC and to make oral statements during the specific public comment period. To attend the conference call and/or to make oral statements, e-mail HTAC.Committee@ee.doe.gov no later than November 7, 2006. (Please indicate if you will be making an oral statement.) Members of the public will be permitted to participate on a first come/first serve basis. Oral comments should be limited to two minutes in length. Reasonable provision will be made to include all scheduled oral statements. The Chair of the Committee will make every effort to hear the views of all interested parties and to facilitate the orderly conduct of business. If you would like to file a written statement with the Committee, you may do at any time (electronic and hard copy).

Minutes: The minutes of Committee meetings will be available for public review and copying at the Freedom of Information Public Reading Room; Room 1E-190, Forrestal Building, 1000 Independence Avenue, SW., Washington, DC 20585, between 9 a.m. and 4 p.m., Monday through Friday, except Federal holidays.

Issued at Washington, DC on October 26, 2006.
Rachel Samuel,
Deputy Advisory Committee Management Officer.

[FR Doc. E6-18555 Filed 11-1-06; 8:45 am]

BILLING CODE 6450-01-P